DEPARTMENT OF TRANSPORTATION

Federal Railroad Administration

[Docket Number FRA-2018-0086]

Petition for Extension of Waiver of Compliance

Under part 211 of title 49 Code of Federal Regulations (CFR), this document provides the public notice that by letter dated April 23, 2024, Texas & Eastern Railroad (TESR) petitioned the Federal Railroad Administration (FRA) to extend a waiver of compliance from certain provisions of the Federal railroad safety regulations contained at 49 CFR parts 215 (Railroad Freight Car Safety Standards) and 224 (Reflectorization of Rail Freight Rolling Stock). FRA assigned the petition Docket Number FRA-2018-0086.

Specifically, TESR requested to extend the previous special approval pursuant to 49 CFR 215.203, Restricted cars, in this docket for 14 cars, which are more than 50 years from the dates of original construction. Petitioner also seeks relief from § 215.303, Stenciling of restricted cars, and part 224, reflectorization requirements, to use the cars as operating historic artifacts.

In support of its request, TESR stated that tourist passenger operations run up to 30 miles per hour, and that TESR “exercises complete control of the operation and maintenance” of the subject cars. TESR added that the cars have not been interchanged in regular freight operations with other railroads and are primarily used for mobile storage. They are also used with steam and diesel locomotives in trains for photography, historic documentation, and film production. TESR explained that the extension of relief will allow the flexibility for the railroad to make up and operate historic trains at any time.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by November 18, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-21395 Filed 9-18-24; 8:45 am]

BILLING CODE 4910-06-P